DEPARTMENT OF DEFENSE

Department of the Army

Availability for Exclusive, Non-Exclusive, or Partially-Exclusive Licensing of an Invention Concerning a Urinary Field Sampling Kit for the Determination of Nerve Agent Exposure and Method of Use Thereof

AGENCY: Department of the Army, DoD.

ACTION: Notice.

SUMMARY: Announcement is made of the availability for licensing of the invention set forth in U.S. Provisional Patent Application Serial No. 61/458,797, entitled “Urinary Field Sampling Kit for the Determination of Nerve Agent Exposure and Method of Use Thereof,” filed on November 15, 2010. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a urinary field sampling kit and method of its use for collecting and processing urine samples to be analyzed to confirm, identify and measure human exposure to nerve agents.

Brenda S. Bowen,
Army Federal Register Liaison Officer.

[FR Doc. 2011-959 Filed 1-18-11; 8:45 am]

BILLING CODE 3710-08-P